DEPARTMENT OF HOMELAND SECURITY

Federal Emergency Management Agency

[Docket ID: FEMA-2022-0018; OMB No. 1660-0024]

Agency Information Collection Activities: Submission for OMB Review; Comment Request; Federal Assistance for Offsite Radiological Emergency Preparedness and Planning

AGENCY: Federal Emergency Management Agency, Department of Homeland Security.

ACTION: 30-Day notice of revision and request for comments.

SUMMARY: The Federal Emergency Management Agency (FEMA) will submit the information collection abstracted below to the Office of Management and Budget for review and clearance in accordance with the requirements of the Paperwork Reduction Act of 1995 (PRA). In accordance with the PRA, this notice seeks comments concerning all information collections related to FEMA's Radiological Emergency Preparedness Program requirements.

DATES: Comments must be submitted on or before October 31, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Renae Connell, Emergency Management Specialist, FEMA/NPD/THD, at (202) 212-7913 or Renae.Connell@fema.dhs.gov.

SUPPLEMENTARY INFORMATION: FEMA's Radiological Emergency Preparedness (REP) Program coordinates the National effort to provide State, Tribal and local governments with relevant and executable planning, training, technical assistance, exercise guidance, and policies necessary to ensure that adequate capabilities exist to prepare for, respond to, and recover from incidents involving commercial nuclear power plants (NPPs). The REP Program assists State, Tribal and local governments in the development and conduct of off-site emergency planning and preparedness activities within the emergency planning zones (EPZs) of Nuclear Regulatory Commission (NRC)-licensed commercial nuclear power facilities.

Sec. 109 of the NRC Authorization Act of 1980 (Pub. L. 96-295) directed the NRC to establish emergency preparedness as a criterion for licensing commercial NPPs. Specifically, Public Law 96-295 § 109 directed the NRC to establish through rulemaking, (a) standards, developed with FEMA, for the evaluation of State and local government radiological emergency planning and preparedness; and (b) a requirement that the NRC will issue operating licenses. Before issuing a license, the NRC must determine that there is (i) a State or local emergency response plan compliant with the standards developed with FEMA or (ii) in the absence of such a plan, a State, local, or utility emergency response plan that provides reasonable assurance that public health and safety is not endangered by the NPP's operation. See Public Law 96-295, 109 (b)(1)(A)-(B)). The NRC revised its regulations in Part 50 of Title 10 of the CFR to incorporate additional emergency preparedness requirements, including 16 planning standards for onsite and offsite emergency plans as required by Public Law 96-295. FEMA mirrors these 16 planning standards in part 350, specifically at 44 CFR 350.5.

In the communities surrounding commercial NPP, 44 CFR 350.5(b) directs FEMA's REP Program to review offsite radiological emergency plans and preparedness. In addition, 44 CFR 350.9 describes the exercise process and requirements that States, together with all appropriate local governments, must conduct a joint exercise of that State plan, involving full participation of appropriate local government entities, the State and the appropriate licensee of the NRC. Approved plans and preparedness “must be determined to adequately protect the public health and safety by providing reasonable assurance that appropriate protective measures can be taken offsite in the event of a radiological emergency.”

FEMA defines reasonable assurance as a determination that State, Tribal, local, and utility offsite plans and preparedness are adequate to protect public health and safety in the EPZ of commercial NPP. FEMA will consider plans, procedures, personnel, training, facilities, equipment, drills, and exercises, which in its professional judgment are critical for effective implementation of protective measures offsite in the event of any incident at a commercial NPP. FEMA will make its adequacy determination, supported by other Federal agencies, as necessary, by conducting inspections, providing Staff Assistance Visits (SAVs), organizing, conducting and reviewing training, participating in, observing and evaluating drills and exercises, and by being an engaged partner with Federal, State, Tribal, and local government officials and industry stakeholders.

State, Tribal, or local government participation in offsite radiological emergency planning and preparedness is voluntary. However, participation in the REP planning and preparedness process necessitates adherence to the program requirements as set forth in 44 CFR part 350, the joint NRC/FEMA document NUREG-0654/FEMA-REP-1, Rev. 2, “Criteria for Preparation and Evaluation of Radiological Emergency Response Plans and Preparedness in Support of Nuclear Power Plants” and supplements, (See 84 FR 70399, December 23, 2019), and the REP Program Manual (RPM). The RPM consolidates many of the REP Program's operative guidance and policy documents into one location and provides guidance that interprets the planning standards and evaluation criteria contained in NUREG-0654 and 44 CFR part 350. See FEMA P-1028, December 2019.

As part of our collection to fulfill one of FEMA's missions, each instrument is required for the performance of duties related to the mission. Therefore, due to the maturity of the program and the opportunity to reduce burden cost, there is an opportunity to consolidate, improve, or remove collection instruments. Consequently, the collection instrument in 44 CFR 350.9(c) was added to collect information and relieve requests from the exercise schedule outlined in 44 CFR 350.9. Additionally, to further reduce burden cost, the collection in 44 CFR 352.4 has been removed as it currently does not require approval under the Paperwork Reduction Act, with FEMA only receiving one or no responses in a given year.

This proposed information collection previously published in the Federal Register on June 7, 2022, at 87 FR 34699 with a 60 day public comment period. No comments were received. The purpose of this notice is to notify the public that FEMA will submit the information collection abstracted below to the Office of Management and Budget for review and clearance.

Collection of Information

Title: Federal Assistance for Offsite Radiological Emergency Preparedness and Planning.

Type of Information Collection: Revision of a currently approved information collection.

OMB Number: 1660-0024.

FEMA Forms: There are no forms for this collection; rather the regulatory text details the content in which information is transmitted to FEMA.

Abstract: The intent of this request is the collection of comments on an extension, with change, of a currently approved information collection an OMB control number representing all information collections related to FEMA REP Program requirements described in 44 CFR parts 350 and 352.

Affected Public: State, Local or Tribal Government.

Estimated Number of Respondents: 104.

Estimated Number of Responses: 104.

Estimated Total Annual Burden Hours: 3,400.

Estimated Total Annual Respondent Cost: $223,176.

Estimated Respondents' Operation and Maintenance Costs: $0.

Estimated Respondents' Capital and Start-Up Costs: $0.

Estimated Total Annual Cost to the Federal Government: $652,598.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2022-21165 Filed 9-28-22; 8:45 am]

BILLING CODE 9110-21-P